DEPARTMENT OF DEFENSE

Department of the Army: Corps of Engineers

Announcement of Public Hearing Date on a Draft Supplemental Environmental Impact Statement/Supplemental Environmental Impact Report (SEIS/SEIR) for the Port of Los Angeles Main Channel Deepening Project, Los Angeles County, CA

AGENCY: U.S. Army Corps of Engineers, DoD.

ACTION: Notice.

SUMMARY: The Draft SEIS/SEIR was released for public review on April 7, 2000. The Environmental Protection Agency has published a Notice of Availability of the Draft SEIS/SEIR in the Federal Register on April 7, 2000. The public review of the Draft SEIS/SEIR ends on May 22, 2000.

ADDRESSES: Commander, U.S. Army Corps of Engineers, Los Angeles District, Ecosystem Planning Section, PO Box 532711, Los Angeles, CA 90053-2325.

FOR FURTHER INFORMATION CONTACT: Mr. Larry Smith, Technical Manager, phone (213) 452-3846.

SUPPLEMENTARY INFORMATION:

1. Background

The primary purpose of the proposed project is to deepen the inner harbor of the Port of Los Angeles to improve deep-draft navigation safety, to maximize the efficiency of the Port of Los Angeles by providing deep-draft commercials with reductions in tide delays and increasing economies if scale, and to maximize the beneficial use of dredged material.

2. Proposed Action

Deepening of the Inner Harbor channels at the Port of Los Angeles to a depth of −53 ft Mean Lower Low Water (MLLW).

3. Alternatives

The SEIS/SEIR evaluates the alternatives carried forward for detailed environmental analysis. In general, the major differences among alternatives are the project depth and selection of disposal sites.

Dredge Alternatives

Three dredge depth alternatives were assessed in the SEIS/SEIR. The dredge depths were −50 ft MLLW, −53 ft MLLW, and −55 ft MLLW. A dredge depth of −53 ft MLLW was determined to be the optimum depth.

Disposal Alternatives

Seven dredge disposal sites were assessed in the SEIS/SEIR. Various combinations of disposal sites were assembled as alternative project designs. A total of twenty-one alternatives was assembled; six for the −50 ft MLLW project depth, eight for the −53 ft MLLW project depth, and seven for the −55 ft MLLW project depth.

Alternative 7 for the −53 ft MLLW project depth was selected as the National Economic Development (NED) Plan. Alternative 2 for the −53 ft MLLW project depth was selected as the Locally Preferred Plan (LPP). The Corps has accepted the LPP as the modified NED Plan and it is the recommended plan.

Authorize Plan

• Deepening of the Inner Harbor channels at the Port of Los Angeles to a depth of −53 ft MLLW.

• Disposal of 1.5 million cubic yards of sediment to create the 40-acre Pier 300 Expansion Site.

• Disposal of 1.7 million cubic yards of sediment to create the 35-acre Southwest Slip Fill Site.

• Disposal of 1.0 million cubic yards to sediment to create the 54-acre Cabrillo Shallow Water Habitat Expansion Site.

• Disposal of 2.4 million cubic yards of sediment at the LA-2 and/or LA-3 Ocean Disposal Site.

No Action

No deepening of the channels and no construction of disposal sites.

4. The USACOE and the Los Angeles Harbor Department, the local sponsor, will consider public concerns on the Draft SEIS/SEIR. Summary of the Public Hearing and written comment letters and responses will be incorporated in the Final SEIS/SEIR as appropriate.

5. Time and Location

The Public Hearing is scheduled for May 11, 2000, at 6:30 pm, Los Angeles Harbor Department, Board Hearing Room, 425 South Palos Verdes Street, San Pedro, California.

Dated: April 18, 2000.
John P. Carroll,
Colonel, Corps of Engineers, District Engineer.

[FR Doc. 00-10634 Filed 4-27-00; 8:45 am]

BILLING CODE 3710-KF-M